DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans, that are final. The actions relate to a proposed highway project, known as the SR-91 Corridor Operations Project (COP) portion of the Ultimate SR-91 Corridor Improvement Project (CIP), where the project limits extend approximately 2 miles along westbound SR-91, from Green River Road onramp to SR-241 in the Counties of Orange and Riverside, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before September 24, 2020. If the Federal law that authorizes judicial review of a claim provides a time period of less than 150 days for filing such claim, then that shorter time period still applies.

FOR FURTHER INFORMATION CONTACT: For Caltrans: Shawn Oriaz, Senior Environmental Planner, Caltrans District 8; 464 W 4th St., San Bernardino, CA 92401; 9:00 a.m.-5:00 p.m.; (909) 383-7034; shawn.oriaz@dot.ca.gov. For FHWA, contact David Tedrick at (916) 498-5024, or email david.tedrick@dot.gov.

SUPPLEMENTARY INFORMATION: Effective July 1, 2007, the FHWA assigned, and Caltrans assumed, environmental responsibilities for this project pursuant to 23 U.S.C. 327. Notice is hereby given that Caltrans has taken final agency actions subject to 23 U.S.C. 139(l)(1) by issuing licenses, permits, and approvals for the following highway project in the State of California: Construct a general purpose lane approximately 2 miles in length in the westbound direction on SR-91 from Green River Road westbound onramp to SR-241. Outside widening is proposed along the north side of westbound SR-91 to accommodate the new general purpose lane. Other project features include widening the County Line Creek Undercrossing, construction of new retaining walls on the north side of SR-91, reconstructing a portion of Green River Road, replacing overhead signs, and adding high mast lighting.

[Project Number 0800000136]

The actions by the Federal agencies, and the laws under which such actions were taken, are described in the Final Environmental Impact Statement (FEIS) approved on August 10, 2012, in the Revalidation was completed to address design changes and update the project review approved on March 20, 2020, the ROD for the project approved on April 13, 2020, and in other documents in the FHWA project records. The FEIS, Revalidation, ROD, and other project records are available by contacting Caltrans at the address provided above. The Caltrans FEIS, Revalidation, and ROD can also be viewed and downloaded from the project website at https://www.rctc.org/state-route-91-corridor-operations-project/.

This notice applies to all Federal agency decisions as of the issuance date of this notice and all laws under which such actions were taken, including but not limited to:

1. E.O. 12372, Intergovernmental Review;

2. E.O. 11990, Protection of Wetlands;

3. E.O. 12088, Pollution Control Standards;

4. E.O. 13112, Invasive Species;

5. E.O. 11988, Floodplain Management;

6. Council on Environmental Quality regulations;

7. National Environmental Policy Act (NEPA);

8. Department of Transportation Act of 1996;

9. Federal Aid Highway Act of 1970;

10. Clean Air Act Amendments of 1990;

11. Department of Transportation Act of 1966; Section 4(f);

12. Clean Water Act of 1977 and 1987;

13. Endangered Species Act of 1973;

14. Migratory Bird Treaty Act;

15. National Historic Preservation Act of 1966, as amended; and

16. Historic Sites Act of 1935.

(Catalog of Federal Domestic Assistance Program Number 20.205, Highway Planning and Construction. The regulations implementing Executive Order 12372 regarding intergovernmental consultation on Federal programs and activities apply to this program.)

Authority: 23 U.S.C. 139(l)(1).

Issued on: April 20, 2020.
Tashia J. Clemons,
Director, Planning and Environment, Federal Highway Administration, California Division.

[FR Doc. 2020-08888 Filed 4-24-20; 8:45 am]

BILLING CODE 4910-RY-P